DEPARTMENT OF THE TREASURY

Internal Revenue Service

26 CFR Part 1

[REG-105479-18]

RIN 1545-BO61

Previously Taxed Earnings and Profits and Related Basis Adjustments; Hearing Cancellation

AGENCY: Internal Revenue Service (IRS), Treasury.

ACTION: Cancellation of a notice of public hearing on a proposed rulemaking.

SUMMARY: This document cancels a public hearing on proposed regulations regarding previously taxed earnings and profits of foreign corporations and related basis adjustments.

DATES: The public hearing scheduled for October 2, 2025, at 10 a.m. Eastern Standard Time (EST) is cancelled.

ADDRESSES: See public comments submitted electronically via the Federal eRulemaking Portal at https://www.regulations.gov by searching IRS and REG-105479-18.

FOR FURTHER INFORMATION CONTACT: Martina Greene of the Publications and Regulations Section, Associate Chief Counsel (Procedure and Administration) at (202) 317-6901 (not a toll-free number).

SUPPLEMENTARY INFORMATION: A notice of proposed rulemaking appeared in the Federal Register on December 2, 2024 (89 FR 95362) and a notice of proposed rulemaking and reopening of comment period appeared in the Federal Register on May 16, 2025 (90 FR 20977). The public hearing on the proposed rulemaking, announced in the Federal Register on September 8, 2025 (90 FR 43165) is cancelled.

Oluwafunmilayo A. Taylor,
Section Chief, Publications and Regulations Section, Associate Chief Counsel, (Procedure & Administration).

[FR Doc. 2025-18984 Filed 9-29-25; 8:45 am]

BILLING CODE 4830-01-P